DEPARTMENT OF HEALTH AND HUMAN SERVICES

Health Resources and Services Administration

Statement of Organization, Functions, and Delegations of Authority

This notice amends Part R of the Statement of Organization, Functions, and Delegations of Authority of the Department of Health and Human Services (DHHS), Health Resources and Services Administration (60 FR 56605 as amended November 6, 1995, as last amended at (66 FR 8414-5 dated January 31, 2001).

I. Under Part R, HRSA, delete the “HRSA Field Clusters in its entirety.

II. In the Office of Field Operations, establish the Field Offices to read as follows:

Section RF-00 Mission

The Office of Field Operations, through its Headquarters and ten Field Offices, works in partnership with HRSA Bureaus and Offices to serve as the focal point for HRSA programs and activities in the field. Organized into State teams to provide improved customer service and feedback, the HRSA Field Offices provide program oversight and assistance for major HRSA programs including: Health Centers; National Health Service Corps; Maternal and Child Health grant programs; Ryan White Title II State grants; Ryan White Title III (b) community planning grants; and health facilities construction under the Hill-Burton Program.

The Office of Field Operations, through its Headquarters and ten Field Offices, directly contributes to the Department's mission of improving the health of the Nation's population by assuring a coordinated agency effort in support of national and State health goals/priorities and a responsive approach in meeting the needs of people and communities. Working with other Departmental/Federal agencies, State and local governments, community-based organizations and others involved in the planning or provision of general health services, the Office of Field Operations assists in the development, support and coordination of high quality health services, including preventive services, for underserved and vulnerable populations.

Section RF-10 Organization

The Office of Field Operations is comprised of Headquarters staff and staff assigned to the ten HRSA Field Offices. The Associate Administrator who reports directly to the Administrator of HRSA heads the Office of Field Operations. The Associate Administrator and immediate staff are located in Headquarters. A Field Director who reports to the Associate Administrator heads each of the ten HRSA Field Offices. The Office of Field Operations is organized as follows:

A. Headquarters (RE)

B. Field Offices (RF)

1. Boston Field Office (RF12) serves Connecticut, Maine, Massachusetts, New Hampshire, Rhode Island and Vermont.

a. Office of the Field Director (RF123)

b. State Team Division (RF121)

2. New York Field Office (RF13) serves New Jersey, New York, Puerto Rico and U.S. Virgin Islands.

a. Immediate Office of the Field Director (RF133)

b. State Team Division I (RF131)

c. State Team Division II (RF132)

3. Philadelphia Field Office (RF11) serves Delaware, District of Columbia, Maryland, Pennsylvania, Virginia and West Virginia.

a. Immediate Office of the Field Director (RF111)

b. State Team Division (RF112)

4. Atlanta Field Office (RF21) serves Alabama, Georgia, Florida, Kentucky, Mississippi, North Carolina, South Carolina and Tennessee.

a. Immediate Office of the Field Director (RF211)

b. State Team Division I (RF212)

c. State Team Division II (RF213)

d. Data and Analysis Division (RF214)

5. Chicago Field Office (RF31) serves Illinois, Indiana, Michigan, Minnesota, Ohio and Wisconsin.

a. Immediate Office of the Field Director (RF311)

b. State Team Division I (RF312)

c. State Team Division II (RF313)

6. Dallas Field Office (RF41) serves Arkansas, Louisiana, New Mexico, Oklahoma and Texas.

a. Immediate Office of the Field Director (RF411)

b. State Team Division I (RF412)

c. State Team Division II (RF413)

7. Kansas City Field Office (RF32) serves Iowa, Missouri, Nebraska and Kansas.

a. Immediate Office of the Field Director (RF323)

b. State Team Division (RF321)

8. Denver Field Office (RF42) serves Colorado, Montana, North Dakota, South Dakota, Utah and Wyoming.

a. Immediate Office of the Field Director (RF423)

b. State Team Division (RF421)

9. San Francisco Field Office (RF51) serves Arizona, California, Hawaii, Nevada and Pacific Islands.

a. Immediate Office of the Field Director (RF511)

b. State Team Division I (RF512)

c. State Team Division II (RF513)

10. Seattle Field Office (RF52) serves Alaska, Idaho, Oregon and Washington.

a. Immediate Office of the Field Director (RF523)

b. State Team Division (RF521)

Section RF-20 Function

The Office of Field Operations, through its Headquarters and ten Field Offices, works in partnership with HRSA Bureaus and Offices to serve as the focal point for HRSA programs and activities in the field. Specifically: (1) Serves as field liaison for the Administrator and HRSA Bureaus and Offices with other Departmental/Federal agencies, State and local governments, community-based organizations and others involved in the planning or provision of general health services; (2) assists in the development, implementation and coordination of HRSA programs and activities in the field; (3) provides program oversight and assistance for major HRSA programs including: Health Centers; National Health Service Corps; Maternal and Child Health grant programs; Ryan White Title II State grants; Ryan White Title III (b) community planning grants; and health facilities construction under the Hill-Burton Program; (4) develops and establishes Field Office and cluster/multi-Field Office areas of expertise (e.g., clinical; oral health; health care financing; financial analysis; data; etc.) to assist in the development, support and coordination of high quality health services, including preventive services, for underserved and vulnerable populations; (5) coordinates the field development and implementation of special program initiatives which involve one or more HRSA Field Offices and/or multiple HRSA/Departmental programs; (6) gathers input from local, State and regional perspectives to assist in the formulation, development, analysis and evaluation of HRSA programs and initiatives; (7) develops and implements activities in the field designed to improve customer service and relationships; (8) advises the Administrator on appropriate resource allocation for field activities; (9) provides administrative and financial support services to HRSA field components; and (10) exercises line management authority related to general administrative and management functions.

The OFO Headquarters provides overall leadership/management direction for each of the ten HRSA Field Offices—exercising line management authority, determining appropriate budget/resource allocations, and assuring appropriate Field Office oversight, coordination and accountability. The ten (10) HRSA Field Offices, Boston, New York, Philadelphia, Atlanta, Chicago, Dallas, Kansas City, Denver, San Francisco and Seattle, function as follows:

1. Immediate Office of the Field Director: (1) Serves as HRSA's senior public health official in the field, providing liaison with Federal, State and local health officials as well as private and professional organizations; (2) exercises line management authority as delegated from the Associate Administrator for general administrative and management functions within the field structure; (3) provides for the development, implementation and monitoring of the annual Field Office work plan, aligning Field Office goals/objectives with national and State health goals/priorities as well as community and population needs, and assigns the Field Office resources required to attain these goals/objectives; (4) coordinates the field development and implementation of special program initiatives as well as areas of expertise which involve one or more Field Offices and/or HRSA/Departmental programs; and (5) represents HRSA in working with other Departmental/Federal agencies, State and local governments, community-based organizations and others involved in the planning or provision of general health services.

2. State Team Division I & II: (1) Assists in the development, implementation and coordination of HRSA programs and activities in the field; (2) provides program oversight and assistance, in partnership with HRSA Bureaus and Offices, for major HRSA programs including: Health Centers; National Health Service Corps; Maternal and Child Health grant programs; Ryan White Title II State grants; Ryan White Title III (b) community planning grants; and health facilities construction under the Hill-Burton Program) to assure compliance with applicable laws, regulations, policies and performance standards, alerting HRSA program officials of potential issues and identifying opportunities for improving performance; (3) establishes effective relationships with other Departmental/ Federal agencies, State and local governments, community-based organizations and others involved in the planning or provision of general health services; (4) gathers input from local, State and regional perspectives to assist in the formulation, development, analysis and evaluation of HRSA programs and initiatives; and (5) serves as a source of information and expertise on health resources and services development/operations, maternal and child health, primary health care, HIV/AIDS, rural health, health professions, and other HRSA/health programs and activities, including identified Field Office and cluster/multi-Field Office areas of expertise (e.g., clinical; oral health; health care financing; financial analysis; data; etc.).

3. Division of Data and Analysis: (1) Serves as primary focal point for conducting and disseminating, as appropriate, analyses of financial data, health indicators, and service data to identify emerging trends among HRSA programs and health service catchment areas; (2) provides technical assistance and training to HRSA programs, communities, States as well as Field Office staff related to the analysis and interpretation of data, evaluations and data systems; (3) develops statistical profiles of HRSA programs; (4) performs State/community-level analyses using Geographic Information Systems profiles and other profiles developed by Federal, state and local agencies; and (5) maintains databases and reports for assigned Field Offices.

Section RF-30 Delegation of Authority

All delegations of authority which where in effect immediately prior to the effective date hereof have been continued in effect in them or their successors pending further redelegation. I hereby ratify and affirm all actions taken by any DHHS official which involved the exercise of these authorities prior to the effective date of this delegation.

This reorganization is effective upon the date of signature.

Dated: June 19, 2001.
Elizabeth M. Duke,
Acting Administrator.

[FR Doc. 01-16105 Filed 6-27-01; 8:45 am]

BILLING CODE 4160-15-P